DEPARTMENT OF HEALTH AND HUMAN SERVICES

Health Resources and Services Administration

Meeting of the Advisory Committee on Training and Primary Care Medicine and Dentistry

AGENCY: Health Resources and Services Administration (HRSA), Department of Health and Human Services.

ACTION: Notice.

SUMMARY: In accordance with the Federal Advisory Committee Act, this notice announces that the Advisory Committee on Training and Primary Care Medicine and Dentistry (ACTPCMD) will hold public meetings for the 2023 calendar year (CY). Information about ACTPCMD, agendas, and materials for these meetings can be found on the ACTPCMD website at https://www.hrsa.gov/advisory-committees/primarycare-dentist.

DATES: ACTPCMD meetings will be held on:

• February 23, 2023, 10:00 a.m.-5:00 p.m. Eastern Time (ET) and February 24, 2023, 10:00 a.m.-4:00 p.m. ET; and

• August 17, 2023, 10:00 a.m.-5:00 p.m. ET.

ADDRESSES: Meetings will be held virtually and by teleconference. No in-person meetings will be conducted in 2023. For updates on how the meeting will be held, visit the ACTPCMD website 30 business days before the date of the meeting, where instructions for joining meetings will be posted. For meeting information updates, go to the ACTPCMD website meeting page at https://www.hrsa.gov/advisory-committees/primarycare-dentist/meetings.

FOR FURTHER INFORMATION CONTACT: Shane Rogers, Designated Federal Official, Division of Medicine and Dentistry, Bureau of Health Workforce, HRSA, 5600 Fishers Lane, Room 15N142, Rockville, Maryland 20857; 301-443-5260; or SRogers@hrsa.gov.

SUPPLEMENTARY INFORMATION: The ACTPCMD provides advice and recommendations to the Secretary of Health and Human Services (Secretary) on policy, program development, and other matters of significance concerning the activities under Section 747 of Title VII of the Public Health Service (PHS) Act, as it existed upon the enactment of Section 749 of the PHS Act in 1998. ACTPCMD prepares an annual report describing the activities of the committee, including findings and recommendations made by the committee concerning the activities under Section 747, as well as training programs in oral health and dentistry. The annual report is submitted to the Secretary as well as the Chair and ranking members of the Senate Committee on Health, Education, Labor and Pensions and the House of Representatives Committee on Energy and Commerce. The ACTPCMD develops, publishes, and implements performance measures and guidelines for longitudinal evaluations of programs authorized under Title VII, Part C of the PHS Act, and recommends appropriation levels for programs under this Part. Since priorities dictate meeting times, be advised that start times, end times, and agenda items are subject to change. For CY 2023 meetings, agenda items may include, but are not limited to, inter-professional team-based education, practice, and retention in underserved rural communities, as well as matters pertaining to policy, program development, and other matters of significance concerning medicine and dentistry activities authorized under the relevant sections of the PHS Act. Refer to the ACTPCMD website listed above for all current and updated information concerning the CY 2023 ACTPCMD meetings, including agendas and meeting materials that will be posted 30 calendar days before the meeting. Members of the public will have the opportunity to provide comments. Public participants may submit written statements in advance of the scheduled meeting(s). Oral comments will be honored in the order they are requested and may be limited as time allows. Requests to submit a written statement or make oral comments to the ACTPCMD should be sent to Shane Rogers using the contact information above at least 5 business days before the meeting date(s). Individuals who need special assistance or another reasonable accommodation should notify Shane Rogers using the contact information listed above at least 10 business days before the meeting(s) they wish to attend.

Maria G. Button,
Director, Executive Secretariat.

[FR Doc. 2022-27541 Filed 12-19-22; 8:45 am]

BILLING CODE 4165-15-P